DEPARTMENT OF DEFENSE

Federal Advisory Committee; Military Leadership Diversity Commission (MLDC)

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet August 23-25, 2010, in Richmond, VA.

DATES: The meeting will be held on August 23 (from 1 p.m. to 6:30 p.m.), August 24 (from 8 a.m. to 6:15 p.m.), and August 25, 2010 (from 8 a.m. to 4:45 p.m.). The August 23 Administrative Working Meeting is closed to the public from 1 to 1:30 p.m.

ADDRESSES: The meeting will be held at the Omni Hotel, 100 South 12th Street, Richmond, VA 23219.

FOR FURTHER INFORMATION CONTACT: Master Chief Steven A. Hady, Designated Federal Officer, MLDC, at (703) 602-0838, 1851 South Bell Street, Suite 532, Arlington, VA. E-mail: steven.hady@wso.whs.mil.

SUPPLEMENTARY INFORMATION:

Purpose of the Meeting

The purpose of the meeting is for the commissioners of the MLDC to continue their efforts to address congressional concerns as outlined in the commission charter.

Agenda

August 23, 2010

1 p.m.-1:30 p.m.

Administrative Working Meeting (closed to the public).

2:15 p.m.-3:15 p.m.

Designated Federal Officer (DFO) opens meeting.

Commission Chairman opening remarks.

Deliberation on the definition of diversity.

3:15 p.m.-4:15 p.m.

Open discussion for National Guard and Reserve.

4:15 p.m.-6:30 p.m.

National Guard and Reserve Briefings.

August 24, 2010

8 a.m.-8:15 a.m.

DFO opens the meeting.

Commission Chairman opening remarks.

DFO recesses the meeting.

8:15 a.m.-8:45 a.m.

DFO opens the meeting.

Presentation of recommendations for retention.

DFO recesses the meeting.

9:15 a.m.-10:15 a.m.

DFO opens the meeting.

Deliberation of recommendations for retention.

DFO recesses the meeting.

10:15 a.m.-10:45 a.m.

DFO opens the meeting.

Presentation of recommendations for outreach and recruiting.

DFO recesses the meeting.

11:15 a.m.-12:15 p.m.

DFO opens the meeting.

Deliberation of recommendations for outreach and recruiting.

DFO recesses the meeting.

1:15 p.m.-1:45 p.m.

DFO opens the meeting.

Presentation of recommendations for promotion.

DFO recesses the meeting.

2:15 p.m.-3:45 p.m.

DFO opens the meeting.

Deliberation of recommendations for promotion.

DFO recesses the meeting.

3:45 p.m.-4:15 p.m.

DFO opens the meeting.

Presentation of recommendations for branching and assignments.

DFO recesses the meeting.

4:45 p.m.-5:45 p.m.

DFO opens the meeting.

Deliberation of recommendations for branching and assignments.

DFO recesses the meeting.

5:45 p.m.-6:15 p.m.

Public Comments.

Commission Chairman closing remarks.

DFO adjourns the meeting.

August 25, 2010

8 a.m.-8:15 a.m.

DFO opens the meeting.

Commission Chairman opening remarks.

DFO recesses the meeting.

8:15 a.m.-8:45 a.m.

DFO opens the meeting.

Presentation of recommendations for metrics.

DFO recesses the meeting.

9:15 a.m.-10:15 a.m.

DFO opens the meeting.

Deliberation of recommendations for metrics.

DFO recesses the meeting.

10:15 a.m.-10:45 a.m.

DFO opens the meeting.

Presentation of recommendations for implementation and accountability.

DFO recesses the meeting.

11:15 a.m.-12:15 p.m.

DFO opens the meeting.

Deliberation of recommendations for implementation and accountability.

DFO recesses the meeting.

1:15 p.m.-1:45 p.m.

DFO opens the meeting.

Presentation of recommendations for diversity leadership and training.

DFO recesses the meeting.

2:15 p.m.-3:15 p.m.

DFO opens the meeting.

Deliberation of recommendations for diversity leadership and training.

DFO recesses the meeting.

3:15 p.m.-4:15 p.m.

DFO opens the meeting.

Deliberation of definition of diversity.

DFO recesses the meeting.

4:15 p.m.-4:45 p.m.

Public Comments.

Commission Chairman closing remarks.

DFO adjourns the meeting.

Public's Accessibility to the Meeting

Pursuant to 5 U.S.C. 552b and 41 CFR 102-3.140 through 102-3.165, and the availability of space, the meetings on August 23 thru 25, 2010 will be open to the public. However, pursuant to 41 CFR 3.160(b), the Administrative Working Meeting on August 23, 2010 from 1 p.m. to 1:30 p.m. shall be closed to the public.

Please note that the availability of seating is on a first-come basis.

Written Statements

Pursuant to 41 CFR 102-3.105(j) and 102-3.140, and section 10(a)(3) of the Federal Advisory Committee Act of 1972, the public or interested organizations may submit written statements to the MLDC about its mission and functions. Written statements may be submitted at any time or in response to the stated agenda of a planned meeting of the Commission.

All written statements shall be submitted to the Designated Federal Officer for the MLDC, and this individual will ensure that the written statements are provided to the membership for its consideration. Contact information for the Designated Federal Officer can be obtained from the GSA's FACA Database— https://www.fido.gov/facadatabase/public.asp.

Statements being submitted in response to the agenda mentioned in this notice must be received by the Designated Federal Officer (see FOR FURTHER INFORMATION CONTACT) at least five calendar days prior to the meeting that is the subject of this notice. Written statements received after this date may not be provided to or considered by the MLDC until its next meeting.

The Designated Federal Officer will review all timely submissions with the Military Leadership Diversity Commission Chairperson and ensure they are provided to all members of the Commission before the meeting that is the subject of this notice.

Dated: August 2, 2010.
Mitchell S. Bryman,
Alternate OSD Federal Register Liaison Officer, Department of Defense.

[FR Doc. 2010-19278 Filed 8-4-10; 8:45 am]

BILLING CODE 5001-06-P